DEPARTMENT OF ENERGY

Federal Energy Regulatory Commission

[Docket No. FA11-21-000]

North American Electric Reliability Corporation; Notice of Filing

Take notice that on February 1, 2013, the North American Electric Reliability Corporation (NERC) submitted a compliance filing in accordance with the Federal Energy Regulatory Commission's Order (FERC or Commission) in North American Electric Reliability Corporation, 141 FERC ¶ 61,086 (2012) (November 2 Order).

Any person desiring to comment on this filing must file in accordance with the Commission's Rules of Practice and Procedure. Such comments must be filed on or before the comment date. On or before the comment date, it is not necessary to serve comments on persons other than the Applicant.

The Commission encourages electronic submission of comments in lieu of paper using the “eFiling” link at http://www.ferc.gov. Persons unable to file electronically should submit an original and 14 copies of the comments to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 22, 2013.

Dated: February 4, 2013.
Kimberly D. Bose,
Secretary.

[FR Doc. 2013-02932 Filed 2-8-13; 8:45 am]

BILLING CODE 6717-01-P